DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs Recordkeeping and Reporting Requirements, Supply and Service. A copy of the proposed information collection request can be obtained by contacting the office listed below in the addresses section of this Notice.

DATES: Written comments must be submitted to the office listed in the addresses section below on or before May 24, 2004.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: I. Background: The Office of Federal Contract Compliance Programs (OFCCP) is responsible for the administration of three equal opportunity programs prohibiting employment discrimination and requiring affirmative action. The OFCCP administers Executive Order 11246, as amended; Section 503 of the Rehabilitation Act of 1973, as amended; and the affirmative action provisions of the Vietnam Era Veterans' Readjustment Assistance Act of 1974, as amended (VEVRAA), 38 U.S.C. 4212. The regulations implementing the Executive Order program are found at 41 CFR Parts 60-1, 60-2, 60-3, 60-4, 60-20, 60-30, 60-40, and 60-50. The regulations implementing Section 503 are published at 41 CFR part 60-741. The regulations implementing VEVRAA are found at 41 CFR Part 60-250. The regulations require contractors to develop and maintain Affirmative Action Programs (AAP). OFCCP reviews these AAPs through its compliance evaluation process. The Supply and Service Scheduling Letter provides the contractor notice of its selection for a compliance evaluation and requests the submission of its Affirmative Action Programs and supporting documentation. The supporting documentation includes compensation data (Itemized Listing question number 11). OFCCP uses the Item 11 data purely to determine whether OFCCP should investigate a contractor's compensation practices further, as a means of targeting and allocating the agency's investigative resources. OFCCP is not using Item 11 data to make any kind of determination of whether a violation has occurred. OFCCP only determines that a violation has occurred based on careful investigation of a contractor's compensation practices, which would require examination of much more detailed compensation and personnel data. With respect to assessing whether the contractor has engaged in systemic discrimination (i.e., pattern or practice discrimination under a disparate treatment and/or disparate impact theory), OFCCP conducts multiple regression analyses and/or examines cohorts to assess whether there is a pattern of compensation disparities. In assessing whether to make a finding of systemic compensation discrimination, OFCCP looks not only at statistically-significant compensation disparities, but also at evidence of how the statistical pattern of pay disparities affects individual employees within the contractor's workplace, and other anecdotal evidence. OFCCP has found this approach effective in determining whether systemic compensation discrimination exists, convincing a contractor to conciliate based on OFCCP's findings, and creating a credible threat of enforcement litigation.

In light of this limited use of the Item 11 data, OFCCP concludes that the data, while clearly not sufficient to make a determination of a violation, is and has been effective in allowing OFCCP to allocate the agency's investigative resources. OFCCP's Division of Program Operations (DPO) conducted an internal study of compliance reviews closed at the desk audit stage. The DPO study found that indicators obtained from review of the Item 11 data were sufficient to target OFCCP's resources on cases in which additional data was required. The DPO study also found that OFCCP's review of the additional data in many cases warranted OFCCP's determination that an on-site review was unnecessary. For example, before deciding to pursue further investigation during an evaluation, OFCCP asked for more data in just over 50% of the cases. However, in a significant number of cases, nearly 50%, OFCCP determined that further review of compensation data was unwarranted based only on the Item 11 submission. OFCCP asked for more compensation data only if an examination of the Item 11 data indicated a potential problem that could be assessed through analysis of further data.

In addition to the internal DPO study, OFCCP developed and sent out a Compensation Questionnaire in response to the Office of Management and Budget's (OMB) previous Terms of Clearance. These Compensation Questionnaires were sent to Supply and Service contractors scheduled for compliance evaluations between July and September 2003. The Compensation Questionnaire solicited information about the burden hours associated with submitting compensation data to OFCCP during the initial desk audit stage of a compliance review. The Compensation Questionnaires were voluntary, and contractors were afforded 60 days to complete the questionnaire.

On October 31, 2003, OFCCP requested and received a 3-month extension from OMB on its Supply and Service authorization to allow for continued submission of the questionnaires and for OFCCP to analyze the responses. While OFCCP sent out 1,977 questionnaires, the agency received only 99 responses and 4 letters of non-response, for a response rate of approximately 5%, a somewhat disappointing result. Nonetheless, OFCCP's attempt to solicit comments directly from covered contractors obtained the following information:

1. On average, contractors took 28.35 staff hours to prepare and submit information to OFCCP in response to the Supply and Service Scheduling Letter.

2. Of those 28.35 staff hours, on average, contractors took 5.23 staff hours to submit compensation information to OFCCP.

3. 94.94% of respondents who stated a preference, preferred to submit compensation information as part of the desk audit rather than as part of the on-site review.

4. 86.46% of respondents maintain compensation data in electronic format; while 29.17% of respondents maintain compensation data manually (some contractors indicated both forms of data maintenance).

OFCCP has revised its burden hour estimates based on the comments received from the compensation questionnaire.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: OFCCP seeks a three-year extension to the approval of the Supply and Service Scheduling Letter. There is no change in the substance or method of collection since the last OMB approval. OFCCP has revised the burden hour estimates associated with the Supply and Service Scheduling letter based on the responses to the Compensation Questionnaire.

Type of Review: Extension.

Agency: Employment Standards Administration.

Title: OFCCP Recordkeeping and Reporting Requirements, Supply and Service—Scheduling Letter.

OMB Number: 1215-0072.

Affected Public: Business or other for-profit, Not-for-profit institutions.

Total Annual responses: 6,092 (FY03 data).

Frequency: Annually.

Average Time per response: 28.35 hours.

Estimated Total Burden Hours: 172,708.

Total Burden Cost (capital/startup): $0.

Total Burden Cost (operating/maintenance): $60,798.

Comments submitted in response to this notice will be summarized and/or included in the request for Office of Management and Budget approval of the information collection request; they will also become a matter of public record.

Dated: March 18, 2004.
Bruce Bohanon,
Chief, Branch of Management Review and Internal Control, Division of Financial Management, Office of Management, Administration and Planning, Employment Standards Administration.

[FR Doc. 04-6552 Filed 3-23-04; 8:45 am]

BILLING CODE 4510-CM-P